DEPARTMENT OF JUSTICE

Notice of Lodging of Consent Decree Between the United States of America and the City of New Haven, MO Under the Comprehensive Environmental Response, Compensation and Liability Act (CERCLA)

Under 28 CFR 50.7, notice is hereby given that on June 15, 2007, a proposed Consent Decree (Consent Decree) with Defendant the City of New Haven, Missouri (New Haven) in the case of United States v. the City of New Haven, Missouri, Civil Action No. 4:06CV01429-ERW, has been lodged in the United States District Court for the Eastern District of Missouri.

This Consent Decree resolves the United States' claims against New Haven under Section 107 of CERCLA, 42 U.S.C. 9607, for the recovery of response costs incurred by the United States in connection with releases of hazardous substances at or from the Old City Dump Site, operable unit three of the Riverfront Superfund Site, located in New Haven (OU3). Under the decree, New Haven agrees to implement the remedy selected by the United States Environmental Protection Agency (EPA) for OU3 and pay $19,500 of EPA's response costs for OU3, based on New Haven's limited ability to pay. Pursuant to the decree, the United States covenants not to sue or take administrative action against New Haven for OU3, as well as for operable units two and six of the Riverfront Superfund Site.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. the City of New Haven, Missouri, Civil Action No. 4:06CV01429-ERW, D.J. Ref. 90-11-2-08795.

The Consent Decree may be examined at the Office of the United States Attorney, Eastern District of Missouri, 111 South Tenth Street, 20th floor, St. Louis, Missouri 63102, and at the Environmental Protection Agency, Region VII, 901 N. 5th Street, Kansas City, Kansas 66101. During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $29.50 (25 cents per page reproduction cost) payable to the United States Treasury for payment. In requesting a copy exclusive of exhibits and signature pages, please enclose a check in the amount of $10.00 (25 cents per page reproduction cost) payable to the United States Treasury for payment.

Robert E. Maher, Jr.,
Assistant Section Chief, Environmental Enforcement Section, Environment and Natural Resources Division, United States Department of Justice.

[FR Doc. 07-3149 Filed 6-26-07; 8:45 am]

BILLING CODE 4410-15-M